DEPARTMENT OF AGRICULTURE

Food and Nutrition Service

Agency Information Collection Activities: Special Supplemental Nutrition Program for Women, Infants, and Children (WIC) Infant and Toddler Feeding Practices Study-2 (WIC ITFPS-2) Year 9 Extension

AGENCY: Food and Nutrition Service (FNS), USDA.

ACTION: Notice.

SUMMARY: In accordance with the Paperwork Reduction Act of 1995, this notice invites the general public and other public agencies to comment on this proposed information collection. This collection is a revision of the currently approved collection for Special Supplemental Nutrition Program for Women, Infants, and Children (WIC) Infant and Toddler Feeding Practices 2 Study (ITFPS-2) [OMB Control Number 0584-0580]. The revision is to extend data collection on the original cohort of study participants by one more interview around their 9th birthday, which is four years after the end of their period of eligibility for WIC services. It also seeks to collect administrative data from WIC State agencies to examine the WIC participation patterns of participants who enrolled in the study but discontinued their participation during the first 5 years of the study (i.e., during the period of time when study children would be categorically eligible for WIC).

DATES: Written comments must be received on or before July 6, 2021.

ADDRESSES: Comments may be sent to: Amanda Reat, Office of Policy Support, Food and Nutrition Service, USDA, 1320 Braddock Place, Alexandria, VA 22314. Comments may also be submitted via fax to the attention of Amanda Reat at 703-305-2576 or via email to Amanda.Reat@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Amanda Reat at Amanda.Reat@usda.gov or Courtney Paolicelli at 571.302.6447.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Special Supplemental Nutrition Program for Women, Infants, and Children (WIC) Infant and Toddler Feeding Practices Study-2 (ITFPS-2) Year 9 Extension.

Form Number: N/A.

OMB Number: 0584-0580.

Expiration Date: March 31, 2022.

Type of request: Revision of a currently approved collection.

Abstract: The USDA Food and Nutrition Service's (FNS) WIC ITFPS-2 provides information on the feeding practices of children who received WIC benefits, from birth up to 6 years of age. The proposed data collection will extend the longitudinal data collection of the current cohort of study participants for one more interview at nine years of age, four years after the end of their eligibility for WIC services. This proposed extension is needed to understand the nutrition, health outcomes, and family feeding practices of school-aged children in the period after WIC program eligibility ends. The results will assist in the development of appropriate and effective prevention strategies to improve the health of young children. With nearly 45 percent of US infants participating in WIC, it is hoped that prevention strategies implemented in WIC will have a substantial impact on the growth and health of U.S. infants and children.

The data will be used to estimate the type and prevalence of various feeding practices among children who received WIC program benefits, after their program eligibility ends. This study will also examine the circumstances and influences that shape caregivers' feeding decisions for their children, and will describe the impact of childhood WIC participation on subsequent dietary and health outcomes. In addition, the study will examine if those who left the longitudinal study are fundamentally different from those who remain in the study.

The study activities subject to this notice include: Inform 27 WIC State agencies and 80 local WIC sites of the data collection, and their role in the study; contact 27 WIC State agencies for administrative data on the participants who left the study before the child's fifth birthday; contact 3,020 caregivers before the 9-year interview to notify them of the study extension and for them to provide consent and contact information updates, and to send study reminders; administer an additional telephone interview to caregivers of children enrolled in the study when their child is 9 years old; administer a second dietary intake interview to a subsample of caregivers who complete the first interview; and obtain child's height and weight measurements around age nine, taken by their health care provider or at WIC sites, from caregivers.

The WIC State Agency and local WIC site staff will be invited to participate in a webinar that will highlight key study findings to date (from reports approved and published by FNS) and describe the data collection at age nine. The 27 State Agencies and 80 sites will participate in conference calls to discuss the follow-up activities. The 27 State Agencies will be asked to provide administrative data on the participants who left the study before the study child's fifth birthday.

Upon approval, the caregivers will be mailed a study announcement letter, consent form, and contact information form. Periodically before the 9-year interview, caregivers will receive mailings, calls, emails, and text messages asking for their updated contact information. About a week prior to being contacted for the 9-year telephone interview, the caregiver for each child in the cohort will be mailed an advance letter that includes a toll-free number to call for questions or to complete the interview at any time during the six-week interview window. Children's H/W measures will come from provider records supplied by caregivers, or WIC site staff will weigh and measure study children around their ninth birthday. WIC site staff will also provide updated contact information on study participants who are still in contact with WIC, when requested. Healthcare providers will be contacted by the caregivers who do not wish to go to the WIC sites to measure the child.

From the last submission of the ICR to this revision, the number of the respondents to the telephone interview and height and weight measurement collection has decreased. The burden on the caregivers has increased slightly because of the increase in the interview length and the contacts to obtain updated contact information. The burden on the State agencies has increased substantially because of the request to provide administrative data on the participants who left the study before the study child's fifth birthday, which is new to this data collection.

Affected Public: (1) Individuals/Households (2) State, Local, or Tribal government, and (3) Profit/Non-profit Business. Respondent groups identified include (1) caregivers of children formerly on WIC; (2) WIC State Agency staff from 27 states and territories and local site staff from 80 WIC sites (both government and business/non-profit), and (3) healthcare providers.

Estimated Number of Respondents: The total estimated number of respondents is 3,474. This includes 2,668 caregivers of children formerly receiving WIC who originally enrolled in the study; 27 WIC State Agency points-of-contact; 80 local WIC agencies (52 government and 28 business/non-profits) staff members; 347 healthcare providers; and 352 non-respondents.

Estimated Number of Responses per Respondent: The estimated number of responses per respondent across the entire collection is 10. Caregivers of former WIC children will be asked to respond to: 1 study letter; 1 informed consent; 1 contact information form; up to 3 reminders for the contact information form; 1 advance letter; 1 main telephone survey; 1 replicate dietary intake telephone survey; 1 child height/weight measurement; 3 interview reminders, on average; 3 height and weight measurement reminders on average; 1 thank-you message; 2 birthday messages/cards, for a total of 19 responses. WIC State Agency points-of-contact will respond to 1 study extension announcement, 1 study webinar; 1 conference call; 1 written summary of the study and agreed upon activities, and 1 administrative data request for a total of 5 responses. An estimated 14 out of the 27 State agencies will also respond to requests for contact information for an average of 9 responses. WIC local site points-of-contact (both the state and local government and profit/non-profit businesses) will respond to 1 study announcement, 1 study webinar; 1 conference call; 1 written summary of the study and agreed upon activities; 15 requests (once monthly during the 15-month data collection period) to WIC clinics requesting updates to contact information for hard to reach caregivers; and 4 child height/weight measurements, for a total of 23 responses. Healthcare providers will respond to one request from the caregiver to measure the child. We anticipate that there will be 352 non-respondents and that these will all be caregivers of former WIC children.

Estimated Total Annual Responses: 34,759 total responses (total responses from respondents and non-respondents).

Estimated Time per Response: The estimated time per response varies from less than one minute to 54.65 hours, depending on the activity and respondent type. The average estimated time per response across the entire collection is 15.36 hours.

Estimated Total Annual Burden on Respondents: 5,340 hours. See Table 1 below for estimated total annual burden for each type of respondent.

Cynthia Long,
Acting Administrator, Food and Nutrition Service.

[FR Doc. 2021-09488 Filed 5-4-21; 8:45 am]

BILLING CODE 3410-30-P